NUCLEAR REGULATORY COMMISSION

[NRC-2022-0001]

Sunshine Act Meetings

TIME AND DATE: Week of May 30, 2022. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Wendy.Moore@nrc.gov or Betty.Thweatt@nrc.gov.

MATTERS TO BE CONSIDERED:

Week of May 30, 2022

Friday, June 3, 2022

9:55 a.m. Affirmation Session (Tentative)

(a) Florida Power & Light Company (Turkey Point Nuclear Generating Units 3 and 4), Follow-Up Order to CLI-22-2 (Tentative)

(b) Constellation Energy Generation, LLC (f/k/a Exelon Generation Co., LLC) (Peach Bottom Atomic Power Station Units 2 and 3), Follow-Up Order to CLI-22-4 (Tentative)

(Contact: Wesley Held: 301-287-3591)

Additional Information: The meeting will be held in the Commissioners' Conference Room, 11555 Rockville Pike, Rockville, Maryland. The public is invited to attend the Commission's meeting in person or watch live via webcast at the Web address— https://video.nrc.gov/.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: May 27, 2022.
For the Nuclear Regulatory Commission.
Wesley W. Held,
Policy Coordinator, Office of the Secretary.

[FR Doc. 2022-11843 Filed 5-27-22; 4:15 pm]

BILLING CODE 7590-01-P